DEPARTMENT OF THE INTERIOR

Bureau of Indian Affairs

[AAK6006201 134A2100DD AOR3B30.999900]

Final Environmental Impact Statement for the Proposed Fee-to-Trust Transfer of Property and Subsequent Development of a Resort/Hotel and Ancillary Facilities in the City of Taunton, MA and Tribal Government Facilities in the Town of Mashpee, MA by the Mashpee Wampanoag Tribe

AGENCY: Bureau of Indian Affairs, Interior.

ACTION: Notice of Availability.

SUMMARY: This notice advises the public that the Bureau of Indian Affairs (BIA) as lead agency, with the Mashpee Wampanoag Tribe (Tribe) and the U.S. Army Corps of Engineers serving as cooperating agencies, is making available for public review the Final Environmental Impact Statement (FEIS) regarding the Tribe's application for the conveyance into trust of 170 acres ± located in Mashpee, Massachusetts, and 151 acres ± located in Taunton, Massachusetts, for the benefit of the Tribe.

DATES: The Record of Decision on the proposed action will be issued on or after 30 days from the date the Environmental Protection Agency (EPA) publishes its Notice of Availability in the Federal Register. Any comments on the FEIS must arrive on or before 30 days following the date the EPA publishes its Notice of Availability in the Federal Register.

ADDRESSES: You may mail, hand carry or telefax written comments to Mr. Chet L. McGhee, Regional Environmental Protection Specialist, Bureau of Indian Affairs, Eastern Regional Office, 545 Marriott Drive, Suite 700, Nashville, Tennessee 37214; Telefax (615) 564-6571. Please see the SUPPLEMENTARY INFORMATION section of this notice for directions for submitting comments and locations where copies of the FEIS are available.

FOR FURTHER INFORMATION CONTACT: Mr. Chet L. McGhee at (615) 564-6500.

SUPPLEMENTARY INFORMATION: The federal actions under consideration consist of:

(1) The acquisition in trust of 170 acres ± in Mashpee, Massachusetts, and 151 acres ± in Taunton, Massachusetts, in accordance with section 5 of the Indian Reorganization Act (IRA), 25 USC 465, and the procedures set forth in 25 CFR part 151; and

(2) The issuance of a reservation proclamation in accordance with section 7 of the IRA, 25 U.S.C. 467.

The Tribe proposes to construct a resort/hotel and gaming facility within the project site in Taunton, Massachusetts, and to develop Tribal Government facilities located on the lands in Mashpee, Massachusetts.

At full build-out, the Tribe's proposed resort/hotel and gaming facility would have approximately 132,000 square feet of gaming floor. Access to the Taunton site would be via O'Connell Way, off of Stevens Street, near the intersection of Stevens Street and Route 140 in Taunton, Massachusetts. The following alternatives are considered in the FEIS:

(A) The development as proposed;

(B) Reduced Intensity I Alternative;

(C) Reduced Intensity II Alternative; and

(D) No Action Alternative.

Issues addressed in the FEIS include: transportation; wetlands and other waters of the United States; stormwater; geology and soils; rare species and wildlife habitat; hazardous materials; water supply; wastewater; utilities; solid waste; air quality; greenhouse gas; cultural resources; noise, visual impacts; socio-economics; environmental justice; cumulative effects, and indirect and growth inducing effects.

The resort/hotel alternative has been selected as the Tribe's Preferred Alternative as discussed in the FEIS. The information and analysis contained in the FEIS, as well as its evaluation and assessment of the Tribe's Preferred Alternative, are intended to assist the Department of the Interior (Department) in its review of the issues presented in the Tribe's application. The Preferred Alternative does not necessarily reflect the Department's final decision because the Department must further evaluate all of the criteria listed in 25 CFR part 151. In addition, the Department must further evaluate the criteria listed in 25 CFR part 292 in making a final determination that the Mashpee and Taunton sites may be considered the “initial reservation” of the Tribe pursuant to section 20(b)(1)(B)(ii) of IGRA. The Department's consideration and analysis of the applicable regulations may lead to a final decision that selects an alternative other than the Preferred Alternative, including no action, a variant of the Preferred Alternative, or another one of the alternatives analyzed in the FEIS.

The BIA has afforded other government agencies and the public extensive opportunity to participate in the preparation of this EIS. The BIA published a Notice of Intent (NOI) to prepare the EIS for the proposed action in the Federal Register on May 31, 2012 (77 FR 32132). The BIA held public scoping meetings on June 20, 2012, at Taunton High School in Taunton, Massachusetts, and on June 21, 2012, at Mashpee High School in Mashpee, Massachusetts. A Notice of Availability for the Draft EIS (DEIS) was published in the Federal Register on November 15, 2013 (78 FR 68860), and the EPA published its Notice in the Federal Register on November 22, 2013 (78 FR 70041). The BIA held public hearings on December 2, 2013, at Mashpee High School in Mashpee, Massachusetts, and on December 3, 2013, at Taunton High School in Taunton, Massachusetts. Comments on the DEIS received from the public and based on internal BIA review were considered and incorporated as appropriate into the FEIS.

Locations Where the FEIS is Available for Review: The FEIS will be available for review at the following locations during normal business hours:

• Taunton Public Library, 12 Pleasant Street, Taunton, Massachusetts 02780;

• Mashpee Public Library, 64 Steeple Street, Mashpee, Massachusetts 02649; and

• Mashpee Wampanoag Tribe Headquarters at 483 Great Neck Road—South, Mashpee, Massachusetts 02649.

The FEIS is also available online at: http://www.mwteis.com. To obtain a compact disc copy of the FEIS, please provide your name and address in writing or by voicemail to Mr. Chet L. McGhee, Regional Environmental Protection Specialist, Bureau of Indian Affairs, Eastern Regional Office. Contact information is listed in the FOR FURTHER INFORMATION CONTACT section of this notice. Individual paper copies of the FEIS will be provided only upon payment of applicable printing expenses by the requestor for the number of copies requested.

Public Comment Availability: Before including your address, phone number, email address, or other personal identifying information in your comment, you should be aware that your entire comment—including your personal identifying information—may be made publicly available at any time. While you may request us in your comment to withhold your personal identifying information from public review, we cannot guarantee that we will be able to do so.

Authority: This notice is published in accordance with section 1503.1 of the Council on Environmental Quality regulations (40 CFR 1500 et seq.) and the Department of the Interior Regulations (43 CFR part 46) implementing the procedural requirements of the National Environmental Policy Act (42 U.S.C. 4321 et seq.), and the Department of Interior Manual (516 DM 1-6), and is in accordance with the exercise of authority delegated to the Assistant Secretary—Indian Affairs by part 209 DM 8.1.

Dated: August 25, 2014.
Kevin K. Washburn,
Assistant Secretary—Indian Affairs.

[FR Doc. 2014-20669 Filed 9-4-14; 8:45 am]

BILLING CODE 4310-W7-P